DEPARTMENT OF COMMERCE

National Oceanic and Atmospheric Administration

Agency Information Collection Activities; Submission to the Office of Management and Budget (OMB) for Review and Approval; Comment Request; Partner Probabilistic Snowfall Messaging Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 28, 2021 during a 60-day comment period. This notice allows for an additional 30 days for public comments.

Agency: National Oceanic and Atmospheric Administration, Department of Commerce.

Title: Partner Probabilistic Snowfall Messaging Survey.

OMB Control Number: 0648-XXXX.

Form Number(s): None.

Type of Request: Regular submission new information collection.

Number of Respondents: 7,600.

Average Hours per Response: 0.25 hours or 15 minutes.

Total Annual Burden Hours: 1,900 hours.

Needs and Uses: For decades, the National Weather Service (NWS) has provided deterministic (i.e., single-value) snowfall forecasts or snowfall uncertainty forecasts with set, narrow ranges (i.e., 2-4, 4-6 inches). More recent advancements in model ensembles have allowed for the calculation of probabilistic snowfall information. This forecast information can be messaged in a number of ways, for example, as the probability a location will receive some amount of snowfall, or as the probability the snowfall will be within a certain range. While statistically more accurate, it is unknown if probabilistic snowfall forecasts are understood or helpful to the end user in their decision making process.

The NWS and National Center for Atmospheric Research will work together to conduct a survey across the NWS Central Region to determine different core partners' needs, preferences, understanding, and usefulness regarding probabilistic snow forecasts. Core partners of interest for this effort are emergency managers, school officials, and transportation officials. The survey will be hosted as a web-based survey through QuestionPro and will be electronically distributed to core partners by local NWS forecast offices across the Central Region in early 2022.

Results from this survey will be used to determine how probabilistic snowfall information will be used in future NWS products and services with the ultimate goal of providing information in a way that improves core partners' ability to make informed decisions for the protection of life and property.

Affected Public: Local (city or county), state, tribal, federal, and college/university emergency managers, local school principals, superintendents, transportation directors, and maintenance officials, and city, regional, or state transportation officials.

Frequency: Up to once per year for the approved period.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-04746 Filed 3-4-22; 8:45 am]

BILLING CODE 3510-KE-P